DEPARTMENT OF AGRICULTURE

Agricultural Marketing Service

[Doc. No. AMS-FGIS-25-0519]

Grain Inspection Advisory Committee Meeting

AGENCY: Agricultural Marketing Service, USDA.

ACTION: Notice of Federal advisory committee meeting.

SUMMARY: Pursuant to the Federal Advisory Committee Act, this notice announces an upcoming meeting of the Grain Inspection Advisory Committee (Committee). The Committee meets no less than once annually to advise the Secretary of Agriculture on the programs and services delivered by the Agricultural Marketing Service (AMS) under the U.S. Grain Standards Act. Recommendations by the Committee help AMS meet the needs of its customers, who operate in a dynamic and changing marketplace. This meeting was previously scheduled for October 28, 2025, but was postponed.

DATES: The meeting will be held on January 21, 2026, from 8:30 a.m. to 5:00 p.m. Central and on January 22, 2026, from 8:30 a.m. to 12:00 p.m. Central.

Written Comments: Any member of the public may file written comments with the Committee before or within 15 days after the date on which the meeting concludes. Comments should be submitted via email to Anthony.T.Goodeman@usda.gov. The Committee will consider comments submitted on or before 11:59 p.m. ET on January 9, 2026, prior to the meeting. Comments submitted after this date will be provided to the Committee, but the Committee may not have adequate time to consider those comments prior to the meeting. Comments submitted after the conclusion of the meeting will be posted on the public website.

Oral Comments: The Committee is providing the public an opportunity to present oral comments and will accommodate as many individuals and organizations as time permits. Persons or organizations wishing to make oral comments must pre-register by 11:59 p.m. ET, January 9, 2026, and may only register for one speaking slot. Instructions for registering and participating in the meeting can be obtained by contacting the person listed in the FOR FURTHER INFORMATION CONTACT section by or before the deadline.

ADDRESSES: Meeting Location: The Committee meeting will take place at the AMS National Grain Center, 10383 N. Ambassador Drive, Kansas City, Missouri 64153. A virtual option will be offered, and the online meeting details can be found at the Advisory Committee website at https://www.ams.usda.gov/about-ams/facas-advisory-councils/giac.

FOR FURTHER INFORMATION CONTACT: Anthony Goodeman by phone at (202) 720-0291 or by email at Anthony.T.Goodeman@usda.gov.

SUPPLEMENTARY INFORMATION: The purpose of the Committee is to provide advice to AMS with respect to the implementation of the U.S. Grain Standards Act (7 U.S.C. 71-87k). Information about the Committee is available on the AMS website at https://www.ams.usda.gov/about-ams/facas-advisory-councils/giac.

The agenda for the upcoming meeting will focus on grain inspection matters including, but not limited to, regulatory updates; technology modernization initiatives; inspection policies; operational updates; and a presentation on how the agency uses technology for grading other commodities.

The meeting will be open to the public. Public participation will be limited to written statements and interested parties who have registered to present comments orally to the Committee.

Equal opportunity practices, in accordance with USDA policies, will be followed in all membership appointments to the Committee.

In accordance with Federal civil rights law and USDA civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language) should contact the State or local Agency that administers the program or contact USDA through the Telecommunications Relay Service at 711 (voice and TTY). Additionally, program information may be made available in languages other than English.

Dated: December 10, 2025.
Cikena Reid,
USDA Committee Management Officer.

[FR Doc. 2025-22769 Filed 12-12-25; 8:45 am]

BILLING CODE 3410-02-P